DEPARTMENT OF COMMERCE

Foreign-Trade Zones Board

[Order No. 1399]

Grant of Authority for Subzone Status, TPI Petroleum, Inc., (Oil Refinery Complex), Ardmore, Oklahoma, Area

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, Rural Enterprises of Oklahoma, Inc., grantee of Foreign-Trade Zone 227, has made application to the Board for authority to establish special-purpose subzone status at the oil refinery complex of TPI Petroleum, Inc., located at three sites in the Ardmore, Oklahoma, area (FTZ Docket 28-2004, filed 07/13/04).

Whereas, notice inviting public comment has been given in the Federal Register (69 FR 44490, 7/26/04); and,

Whereas, the Board adopts the findings and recommendations of the examiner's report, and finds that the requirements of the FTZ Act and the Board's regulations would be satisfied, and that approval of the application would be in the public interest if approval is subject to the conditions listed below;

Now, therefore, the Board hereby grants authority for subzone status for the oil refining operations of TPI Petroleum, Inc., located in the Ardmore, Oklahoma, area, (Subzone 227A), as described in the application, subject to the FTZ Act and the Board's regulations, including § 400.28, and subject to the following conditions:

1. Foreign status (19 CFR §§ 146.41, 146.42) products consumed as fuel for the refinery shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

-petrochemical feedstocks and refinery by-products (examiners report, Appendix “C”);

-products for export;

-and, products eligible for entry under HTSUS # 9808.00.30 and# 9808.00.40 (U.S. Government purchases).

Signed at Washington, DC, this 1st day of July, 2005.

Joseph A. Spetrini,
Acting Assistant Secretary of Commercefor Import Administration, Alternate Chairman, Foreign-Trade Zones Board.
Attest:
Dennis Puccinelli,
Executive Secretary.

[FR Doc. 05-14074 Filed 7-15-05; 8:45 am]

BILLING CODE 3510-DS-S